AGENCY FOR INTERNATIONAL DEVELOPMENT

Paperwork Reduction Act 30-Day Notice; Request for Comments; USAID Information Collection Activities; Submission for OMB Review, Private Sector Engagement (PSE) Hub in the Bureau for Development, Democracy, and Innovation (DDI)

AGENCY: U.S. Agency for International Development.

ACTION: Notice of information collection; request for comment.

SUMMARY: USAID Bureau for Development, Democracy, and Innovation's (DDI) Private Sector Engagement Hub will conduct a survey regarding perception of 30 external organizations assigned a Global Relationship Manager. The goal of this survey is to understand their experience when engaging with USAID. The data collected will include email addresses to allow for follow-up inquiries. USAID DDI invites the general public and other Federal agencies to take this opportunity to comment on the following new information collection, as required by the Paperwork Reduction Act of 1995. The purpose of this notice is to allow 30 days for public comment preceding submission of the collection to OMB.

DATES: Written comments and recommendations for the proposed information collection should be sent within 30 days of publication of this notice to www.reginfo.gov/public/do/PRAMain. Find this particular information collection by selecting “Currently under 30-day Review—Open for Public Comments” or by using the search function.

ADDRESSES: To access and review all the documents related to the information collection listed in this notice, please access the survey questionnaire at https://drive.google.com/file/d/1cXheUIuYVIt2qrAcwtAe60SM5YsJR13s/view?usp=sharing. Comments submitted in response to this notice should be submitted electronically through the Federal Register.

FOR FURTHER INFORMATION CONTACT: Matthew Weinmann at mweinmann@usaid.gov or 202-712-5016.

SUPPLEMENTARY INFORMATION:

Title of Information Collection: USAID Bureau for Democracy, Development and Innovation Relationship Management Survey.

Type of Request: Notice for public comment; generic clearance.

Originating Office: USAID Bureau for Development, Democracy, and Innovation (DDI).

Respondents: Key points of contact from thirty private sector organizations that have an assigned USAID Global Relationship Manager.

Respondent's Obligation To Respond: Voluntary.

Estimated Number of Respondents: 30 (one from each company).

Average Time per Response: 15 minutes for survey respondents.

Frequency of Response: Approximately once per year.

Total Estimated Burden: 7.5 hours.

Total Estimated Cost: $750.

We are soliciting public comments to permit USAID to:

• Enhance the quality, utility, and clarity of the information to be collected.

Please note that comments submitted in response to this Notice are public record.

Mandeep Singh Jangi,
Managing Director, External Influence, USAID Private Sector Engagement Hub.

[FR Doc. 2023-15794 Filed 7-25-23; 8:45 am]

BILLING CODE 6116-01-P